DEPARTMENT OF THE INTERIOR

National Park Service

[NPS-SER-BISC-0017910; PPSESEROC3, PMP00UP05.YP0000]

Final General Management Plan and Final Environmental Impact Statement, Biscayne National Park, Florida

AGENCY: National Park Service, Interior.

ACTION: Notice of availability.

SUMMARY: The National Park Service (NPS) announces the availability of a Final Environmental Impact Statement for the General Management Plan (Final EIS/GMP) for Biscayne National Park, Florida (national park). Consistent with NPS laws, regulations, and policies and the purpose of the national park, the Final EIS/GMP will guide the management of the area over the next 15 to 20 years.

DATES: The NPS will execute a Record of Decision (ROD) no sooner than 30 days following publication by the Environmental Protection Agency of its Notice of Availability of the Final EIS/GMP in the Federal Register.

ADDRESSES: Electronic copies of the Final EIS/GMP will be available online at http://parkplanning.nps.gov/BISC. To request a copy, contact Morgan Elmer, National Park Service, 12795 W. Alameda Parkway, P.O. Box 25287, Denver, Colorado 80225-0287, telephone (303) 969-2317. A limited number of compact disks and printed copies of the Final EIS/GMP will be made available at Biscayne National Park Headquarters, 9700 SW. 328 Street, Homestead, Florida 33033-5634.

FOR FURTHER INFORMATION CONTACT: Brian Carlstrom, Superintendent, Biscayne National Park, 9700 SW. 328 Street, Homestead, Florida 33033-5634; telephone (786) 335-3646.

SUPPLEMENTARY INFORMATION: The Final EIS/GMP responds to, and incorporates agency and public comments received on the Draft EIS/GMP and Supplemental Draft EIS/GMP. The Draft EIS/GMP was available for public review from August 19, 2011, through October 31, 2011, and the Supplemental Draft EIS/GMP was available for public review from November 14, 2013, through February 20, 2014.

Regarding the Draft EIS/GMP, the NPS published newsletters and held multiple rounds of public meetings between 2001 and 2011 to keep people informed and involved in the planning process. The public was asked to provide comments throughout the development of the draft plan through three primary avenues—participation in public meetings, responses to newsletters, and comments on the NPS planning Web site. During the August 2011, public comment period, approximately 18,000 comments were received.

Due to concerns raised on the Draft EIS/GMP, the NPS undertook an evaluation process to consider a number of management actions that could be enacted to better achieve its objective of providing a diversified visitor use experience. Several public meetings were held and additional consultations were conducted with federal and state authorities, resulting in the release of the Supplemental Draft EIS/GMP. Approximately 14,000 pieces of correspondence were received on the Supplemental Draft EIS/GMP, containing approximately 1,800 comments. The NPS responses to substantive agency and public comments are provided in Chapter 5 of the Final EIS/GMP, Consultation and Coordination section.

Presented in the Final EIS/GMP is the final NPS preferred alternative (alternative 8) as well as alternatives 1 through 5 from the 2011 Draft Plan and alternatives 6 and 7 from the 2013 Supplemental Plan.

• Alternative 1 (no action) consists of existing park management and trends and serves as a basis for comparison in evaluating the other alternatives.

• Alternative 2 would emphasize the recreational use of the park while providing resource protection as governed by law, policy, or resource sensitivity. This concept would be accomplished by providing a high level of services, facilities, and access to specific areas of the park.

• Alternative 3 would allow all visitors a full range of visitor experiences throughout most of the park and would use a permit system to authorize a limited number of visitors to access some areas of the park. Management actions would provide strong natural and cultural resource protection and diverse visitor experiences.

• Alternative 4 would emphasize strong natural and cultural resource protection while providing a diversity of visitor experiences. Some areas would be reserved for focused types of visitor use. A key component of this alternative was a marine reserve zone where fishing would be prohibited to enhance the quality and type of visitor experience and improve the condition of coral reefs condition by increasing its resiliency to other impacts.

• Alternative 5 would promote the protection of natural resources, including taking actions to optimize conditions for protection and restoration. A permit system would be used in some parts of the park to provide specific experiences.

• Similar to alternative 4, alternatives 6 and 7 would emphasize strong natural and cultural resource protection while providing a diversity of visitor experiences. Alternatives 6 and 7 include a special recreation zone that would be managed as part of an adaptive management strategy to achieve the goal of a healthier coral reef ecosystem within the zone to provide a more enjoyable and diverse visitor experience, including fishing.

• The final NPS preferred alternative (alternative 8) would support strong natural and cultural resources protection while providing improved opportunities for quality visitor experiences. This alternative is a hybrid of alternatives 4 and 6 and combines the “no fishing” marine reserve zone with other management zones described in alternative 6.

When approved, the plan will guide the management of the national park over the next 15 to 20 years.

The responsible official for this Final EIS/GMP is the Regional Director, NPS Southeast Region, 100 Alabama Street SW., 1924 Building, Atlanta, Georgia 30303.

Dated: May 26, 2015.
Barclay C. Trimble,
Acting Regional Director, Southeast Region.

[FR Doc. 2015-13634 Filed 6-3-15; 8:45 am]

BILLING CODE 4610-JD-P